FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 010099-054.

Title: International Council of Containership Operators.

Parties: APL Co. Pte Ltd.; American President Lines, Ltd.; A.P. Moller-Maersk A/S; ANL Singapore Pte Ltd.; China Shipping Container Lines Co., Ltd.; CMA CGM, S.A.; Companhia Libra de Navegacao; Compañía Chilena de Navegación Interoceánica S.A.; Compania Libra de Navegacion Uruguay S.A.; Compania Sud Americana de Vapores S.A.; COSCO Container Lines Co. Ltd; Crowley Maritime Corporation; Delmas SAS; Evergreen Marine Corporation (Taiwan), Ltd.; Hamburg-Süd KG; Hapag-Lloyd USA LLC; Hanjin Shipping Co., Ltd.; Hapag-Lloyd AG; Hyundai Merchant Marine Co., Ltd.; Kawasaki Kisen Kaisha, Ltd.; MISC Berhad; MSC Mediterranean Shipping Co. S.A.; Mitsui O.S.K. Lines, Ltd.; Nippon Yusen Kaisha; Norasia Container Lines Limited; Orient Overseas Container Line, Ltd.; Pacific International Lines (Pte) Ltd.; Regional Container Lines Public Company Ltd.; Safmarine Container Lines NV; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment would remove Neptune Orient Lines, Ltd. and APL Limited as parties to the agreement.

Agreement No.: 012057-006.

Title: CMA CGM/Maersk Line Space Charter, Sailing and Cooperative Working Agreement Asia to USEC and PNW-Suez/PNW & Panama Loops.

Parties: A.P. Moller-Maersk A/S and CMA CGM S.A.

Filing Party: Wayne R. Rohde, Esq.; Cozen O'Connor; 1627 I Street, NW., Suite 1100; Washington, DC 20006.

Synopsis: The amendment increases the operational capacities of the vessels deployed under the agreement, authorizes an additional vessel, revises space allocations, and extends the duration of the agreement.

Agreement No.: 012092-002.

Title: MOL/“K” Line Space Charter and Sailing Agreement.

Parties: Kawasaki Kisen Kaisha, Ltd. and Mitsui O.S.K. Lines, Ltd.

Filing Parties: Robert B. Yoshitomi, Esq.; Nixon Peabody LLP; 444 West Fifth Street, 46th Floor; Los Angeles, CA 90013.

Synopsis: The amendment expands the geographic scope to include Sri Lanka, the United Arab Emirates, Indonesia, Korea, and Australia.

Agreement No.: 012147.

Title: GWF/AGRIEX Space Charter Agreement.

Parties: Great White Fleet (US) Ltd. and Agriculture Investment Export, Inc.

Filing Party: Wade S. Hooker, Esquire, 21 Central Park W.; New York, NY 10024.

Synopsis: The agreement authorizes Great White Fleet to charter space to Agriculture Investment in the trade between U.S. Atlantic and Gulf ports and ports in Guatemala and Honduras.

By Order of the Federal Maritime Commission.
Dated: November 23, 2011.
Karen V. Gregory,
Secretary.

[FR Doc. 2011-30804 Filed 11-29-11; 8:45 am]

BILLING CODE 6730-01-P